DEPARTMENT OF HEALTH AND HUMAN SERVICES

Centers for Medicare & Medicaid Services

[Document Identifier: CMS-10630]

Agency Information Collection Activities: Proposed Collection; Extension of Comment Period

AGENCY: Centers for Medicare & Medicaid Services (CMS), HHS.

ACTION: Agency information collection activities: Proposed collection; comment request; extension of comment period.

SUMMARY: This notice extends the comment period for a 60-day notice request for proposed information collection request associated with the notice [Document Identifier: CMS-10630] entitled “Programs of All-Inclusive Care for the Elderly (PACE) 2020 Audit Protocol” that was published in the March 15, 2019 (84 FR 9526) Federal Register. The comment period for the information collection request, which would have ended on May 14, 2019, is extended to May 28, 2019.

DATES: The comment period for the information collection request published in the March 15, 2019, Federal Register (84 FR 9526) is extended to May 28, 2019.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ____, Room C4-26-05, 7500 Security Boulevard, Baltimore, Maryland 21244-1850.

To obtain copies of a supporting statement and any related forms for the proposed collection(s) summarized in this notice, you may make your request using one of following:

1. Access CMS' website address at website address at https://www.cms.gov/Regulations-and-Guidance/Legislation/PaperworkReductionActof1995/PRA-Listing.html

2. Email your request, including your address, phone number, OMB number, and CMS document identifier, to Paperwork@cms.hhs.gov.

3. Call the Reports Clearance Office at (410) 786-1326.

FOR FURTHER INFORMATION CONTACT: William N. Parham at (410) 786-4669.

SUPPLEMENTARY INFORMATION:

Contents

In the FR Doc. 2019-04895 of March 15, 2019 (84 FR 9526), we published a Paperwork Reduction Act notice requesting a 60-day public comment period for the document entitled “Programs of All-Inclusive Care for the Elderly (PACE) 2020 Audit Protocol”. There were technical delays with making the information collection request publicly available; therefore, in this notice we are extending the comment period from the date originally listed in the March 15, 2019, notice.

Dated: April 10, 2019.
William N. Parham, III,
Director, Paperwork Reduction Staff, Office of Strategic Operations and Regulatory Affairs.

[FR Doc. 2019-07474 Filed 4-15-19; 8:45 am]

BILLING CODE 4120-01-P